DEPARTMENT OF COMMERCE

National Telecommunications and Information Administration

[Docket No. 120214135-2203-02]

RIN 0660-XA27

Multistakeholder Process To Develop Consumer Data Privacy Codes of Conduct

AGENCY: National Telecommunications and Information Administration, U.S. Department of Commerce.

ACTION: Notice; Extension of Comment Period.

SUMMARY: The National Telecommunications and Information Administration (NTIA) announces that the closing deadline for submitting comments responsive to the March 5, 2012 request for public comments on the multistakeholder process to develop consumer data privacy codes of conduct has been extended until 5 p.m. Eastern Daylight Time (EDT) on April 2, 2012.

DATES: Comments are due by 5 p.m. EDT on April 2, 2012.

ADDRESSES: Written comments may be submitted by email to privacyrfc2012@ntia.doc.gov. Comments submitted by email should be machine-searchable and should not be copy-protected. Written comments also may be submitted by mail to 1401 Constitution Avenue NW., Room 4725, Washington, DC 20230. Responders should include the name of the person or organization filing the comment, as well as a page number on each page of their submissions. All comments received are a part of the public record and will generally be posted to http://www.ntia.doc.gov/federal-register-notice/2012/comments-multistakeholder-process without change. All personal identifying information (for example, name, address) voluntarily submitted by the commenter may be publicly accessible. Do not submit Confidential Business information or otherwise sensitive or protected information.

FOR FURTHER INFORMATION CONTACT: For general questions about this amended Notice contact Aaron Burstein, National Telecommunications and Information Administration, U.S. Department of Commerce, 1401 Constitution Avenue NW., Room 4725, Washington, DC 20230; telephone (202) 482-1055; email aburstein@ntia.doc.gov. Please direct media inquiries to NTIA's Office of Public Affairs, (202) 482-7002.

SUPPLEMENTARY INFORMATION: On February 23, 2012, the Executive Office of the President released Consumer Data Privacy in a Networked World: A Framework for Protecting Privacy and Promoting Innovation in the Global Digital Economy (“the Privacy and Innovation Blueprint”).¹ The Privacy and Innovation Blueprint articulates a Consumer Privacy Bill of Rights and directs NTIA to convene open, transparent, consensus-based processes in which stakeholders develop legally enforceable codes of conduct that implement the Consumer Privacy Bill of Rights in specific settings. On March 5, 2012, NTIA requested public comments on (1) which consumer data privacy issues should be the focus of NTIA-convened multistakeholder processes, and (2) specific procedural considerations that NTIA should take into account when initiating a privacy multistakeholder process.² The request for public comments set a deadline for submission of comments on March 26, 2012. NTIA announces that the closing deadline for submission of comments responsive to the March 5, 2012 request has been extended until 5 p.m. EDT on April 2, 2012.

¹ The White House, Consumer Data Privacy in a Networked World: A Framework for Protecting Privacy and Promoting Innovation in the Global Digital Economy, Feb. 2012, available at http://www.whitehouse.gov/sites/default/files/privacy-final.pdf.

² See 77 FR 13098 (Mar. 5, 2012), available at http://www.ntia.doc.gov/files/ntia/publications/fr_privacy_rfc_notice_03052012_0.pdf.

Dated: March 20, 2012.
Lawrence E. Strickling,
Assistant Secretary for Communications and Information.

[FR Doc. 2012-7119 Filed 3-23-12; 8:45 am]

BILLING CODE 3510-60-P